DEPARTMENT OF LABOR

Occupational Safety and Health Administration

[Docket No. OSHA-2006-0040]

SGS North America, Inc. (formerly SGS U.S. Testing Company, Inc.)

AGENCY: Occupational Safety and Health Administration (OSHA), Labor.

ACTION: Notice.

SUMMARY: This notice announces the Occupational Safety and Health Administration's final decision expanding the recognition of SGS North America, Inc., formerly SGS U.S. Testing Company, Inc., as a Nationally Recognized Testing Laboratory under 29 CFR 1910.7.

DATES: The expansion of the scope of recognition becomes effective on August 12, 2013.

FOR FURTHER INFORMATION CONTACT: David W. Johnson, Director, Office of Technical Programs and Coordination Activities, NRTL Program, Occupational Safety and Health Administration, U.S. Department of Labor, 200 Constitution Avenue NW., Room N-3655, Washington, DC 20210, or phone (202) 693-2110: email: Johnson.david.w@dol.gov.

SUPPLEMENTARY INFORMATION:

I. Notice of Final Decision

The Occupational Safety and Health Administration (OSHA or Agency) hereby gives notice of the expansion of recognition of SGS North America, Inc., formerly SGS U.S. Testing Company, Inc., as a Nationally Recognized Testing Laboratory (NRTL). SGS's expansion covers the addition of one test site. OSHA also recognizes the removal of one test site and 13 test standards from SGS's NRTL scope of recognition. SGS also informed OSHA of a change in name from SGS U.S. Testing Company, Inc., to SGS North America, Inc. (see Exhibit 1: SGS Application). This notice reflects that change. OSHA's current scope of recognition for SGS is available at http://www.osha.gov/dts/otpca/nrtl/sgs.html.

OSHA recognition of an NRTL signifies that the organization meets the requirements in Section 1910.7 of Title 29, Code of Federal Regulations (29 CFR 1910.7). Recognition is an acknowledgment that the organization can perform independent safety testing and certification of the specific products covered within its scope of recognition, and is not a delegation or grant of government authority. As a result of recognition, employers may use products properly approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from our Web site at http://www.osha.gov/dts/otpca/nrtl/index.html.

SGS submitted an application, dated April 19, 2012 (Exhibit 1: SGS Application), requesting several changes to its NRTL scope of recognition. SGS requests to expand its recognition to include one additional test site located at 620 Old Peachtree Road, Suwanee, GA 30024. This application also requests the change of the address for SGS's headquarters from 291 Fairfield Avenue, Fairfield, NJ 07004, to 620 Old Peachtree Road, Suwanee, GA 30024. As a consequence of this move, SGS requests the removal of one test site, located at 291 Fairfield Avenue, Fairfield, NJ 07004, from its NRTL scope of recognition. Additionally, SGS informs OSHA of the change of its name from SGS U.S. Testing Company, Inc., to SGS North America, Inc.

SGS also requests a modification of its scope of recognition under the NRTL Program. This request reduces the number of test standards in SGS's current NRTL scope of recognition by 13 test standards. Subsection II.D of Appendix A to 29 CFR 1910.7 provides that OSHA must inform the public of such a reduction in scope. Accordingly, effective the date of this notice, OSHA is modifying SGS's scope of recognition to eliminate the 13 test standards listed below:

1. ANSI/UL 1, Flexible Metal Conduit.

2. UL 62, Flexible Cords and Cables.

3. UL 355, Cord Reels.

4. UL 498, Attachment Plugs and Receptacles.

5. UL 498A, Current Taps and Adapters.

6. ANSI/UL 514A, Metallic Outlet Boxes, Electrical.

7. UL 544, Electric Medical and Dental Equipment.

8. ANSI/UL 632, Electrically Actuated Transmitters.

9. UL 817, Cord Sets and Power-Supply Cords.

10. UL 1363, Relocatable Power Taps.

11. ANSI/UL 1484, Residential Gas Detectors.

12. UL 1492, Audio-Video Products and Accessories.

13. UL 1581, Electrical Wires, Cables, and Flexible Cords.

In connection with these requests, NRTL Program staff performed an on-site review of SGS's Suwanee, GA, testing facilities on November 13, 2012. OSHA staff found some non-conformances within the laboratory during the audit. Following the correction of these non-conformances, OSHA staff recommended expansion of SGS's recognition to include the addition of the Suwanee, GA, site. As a result, OSHA preliminarily determined that it should expand SGS's scope of recognition to include one additional test site. OSHA published the preliminary notice in the Federal Register for public comment on June 26, 2013, and received no comments in regards to this preliminary notice.

II. Final Decision and Order

The NRTL Program staff examined SGS's expansion application, the auditor's recommendation, and other pertinent information. Based on its review of this evidence, OSHA finds that SGS meets the requirements of 29 CFR 1910.7 for expansion of its recognition, subject to the limitation and conditions listed below. OSHA gives notice of the change in name from SGS U.S. Testing Company, Inc., to SGS North America, Inc. OSHA recognizes the removal of 13 test standards as listed above from SGS's NRTL scope of recognition. OSHA also recognizes the relocation of SGS headquarters from Fairfield, NJ, to Suwanee, GA and the removal of SGS's Fairfield, NJ, site from its NRTL scope of recognition.

OSHA limits the expansion of SGS's recognition to include the site in Suwanee, GA, as listed above. OSHA also limits recognition of this site to performing product testing and certifications of products for demonstration of conformance to the test standards for which the site has the proper capability and programs, and for which OSHA currently recognizes SGS. This treatment is consistent with the recognition that OSHA has granted to other NRTLs.

This site also may use all four of the supplemental programs in SGS's scope of recognition. An NRTL may use these programs, which OSHA described in a March 9, 1995 Federal Register notice (60 FR 12980, 03/09/95), to control and audit, but not actually generate, the data relied upon for product certification. The Agency does not consider these programs in determining whether an NRTL meets the requirements for recognition under 29 CFR 1910.7. However, OSHA treats these programs as one of the three elements that define an NRTL's scope of recognition. OSHA previously recognized SGS for these programs. As a result, we do not list them again in this final notice, but merely provide this information as a matter of public interest.

Conditions

In addition to those conditions already required by 29 CFR 1910.7, SGS also must abide by the following conditions of the recognition:

1. SGS must inform OSHA as soon as possible, in writing, of any change of ownership, facilities, or key personnel, and of any major change in its operations as an NRTL, and provide details of the change(s);

2. SGS must meet all the terms of its recognition and comply with all OSHA policies pertaining to this recognition; and

3. SGS must continue to meet the requirements for recognition in all areas for which it has recognition.

Pursuant to the authority in 29 CFR 1910.7, OSHA hereby expands the recognition of SGS, subject to the limitation and conditions specified in this section.

III. Authority and Signature

David Michaels, Ph.D., MPH, Assistant Secretary of Labor for Occupational Safety and Health, 200 Constitution Avenue NW., Washington, DC 20210, authorized the preparation of this notice. Accordingly, the Agency is issuing this notice pursuant to Section 8(g)(2) of the Occupational Safety and Health Act of 1970 (29 U.S.C. 657(g)(2)), Secretary of Labor's Order No. 1-2012 (77 FR 3912, Jan. 25, 2012), and 29 CFR 1910.7.

Signed at Washington, DC, on August 6, 2013.
David Michaels,
Assistant Secretary of Labor for Occupational Safety and Health.

[FR Doc. 2013-19412 Filed 8-9-13; 8:45 am]

BILLING CODE 4510-26-P